DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Drug Abuse Warning Network (OMB No. 0930-0078)—Revision.

The Drug Abuse Warning Network (DAWN) is an ongoing data system that collects information on drug-related medical emergencies as reported from about 350 hospitals nationwide, and drug-related deaths as reported from 6 states and 135 medical examiners/coroner jurisdictions (ME/C) in 35 metropolitan areas. DAWN provides national and metropolitan estimates of substances involved with drug-related emergency department (ED) visits; disseminates information about substances involved in deaths investigated by participating medical examiners and coroners (ME/Cs); tracks drug abuse patterns, trends, and the emergence of new substances; monitors post-market adverse drug incidents; assesses health hazards associated with the use of illicit, prescription, and over-the-counter drugs; and generates information for national and local drug abuse policy and program planning. DAWN data are used by Federal, State, and local agencies, as well as universities, pharmaceutical companies, and the media.

From 2006 to 2008, DAWN will continue to recruit hospitals in the 13 oversampled metropolitan areas in order to improve the precision of estimates, adding approximately 18 hospitals to the sample. In 2007 and 2008, DAWN plans to recruit approximately 20 more ME/Cs from metropolitan areas that are currently profiled by DAWN, but have incomplete participation. DAWN data are submitted electronically, using eHERS (electronic Hospital Emergency Reporting System) and eMERS (electronic Medical Examiner Reporting System). DAWN proposes that all facilities (EDs and ME/Cs) will start using the revised electronic forms for all events occurring from 1/1/2006 forward.

The annual burden estimates are shown below:

Annualized Reporting Burden for DAWN: 2006-2008.
Activity | Number of respondents | Estimated number of responses per respondent | Estimated time per response | Gross burden hours | Burden hours where SAMHSA contractor¹ conducts data collection | Total adjusted burden
Emergency Departments
Chart review | 350 | 24,400 | 2 min | 284,667 | 193,573 | 91,094
eHERS cases | 350 | 756 | 10 min | 44,100 | 29,988 | 14,112
ED activity report | 350 | 12 | 2 min | 140 | 95 | 45
Subtotal |  |  |  |  |  | 105,251
Medical Examiners/Coroners²
Death records review | 104 | 1538 | 2.5 min | 6,665 | 705 | 5,960
eMERS cases | 104 | 111 | 4 min | 770 | 81 | 689
ME/C activity report | 104 | 12 | 2 min | 42 | 4 | 38
Subtotal |  |  |  |  |  | 6687
Total | 454 |  |  |  |  | 111,938
¹ Data collection for 238 EDs and 11 ME/Cs will be conducted by SAMHSA contractor. Because there is no burden associated with these reporters, their hours are deducted from the total burden.
² Some medical examiner/coroner offices report for multiple jurisdictions. For this reason, the number of respondents is smaller than the number of ME/C jurisdictions participating in DAWN.

Send comments to Summer King, SAMHSA Reports Clearance Officer, Room 71-1044, One Choke Cherry Road, Rockville, MD 20857. Written comments should be received within 60 days of this notice.

Dated: August 3, 2005.
Anna Marsh,
Executive Officer, SAMHSA.

[FR Doc. 05-15708 Filed 8-8-05; 8:45 am]

BILLING CODE 4162-20-P